DEPARTMENT OF HOMELAND SECURITY

Federal Emergency Management Agency

[Docket ID: FEMA-2026-0003; OMB No. 1660-0072]

Agency Information Collection Activities: Proposed Collection, Comment Request; Hazard Mitigation Grant Programs

AGENCY: Federal Emergency Management Agency, Department of Homeland Security.

ACTION: 60-Day Notice of Revision and Request for Comments.

SUMMARY: The Federal Emergency Management Agency (FEMA), as part of its continuing effort to reduce paperwork and respondent burden, invites the general public to take this opportunity to comment on a revision of a currently approved information collection. In accordance with the Paperwork Reduction Act of 1995, this notice seeks comments concerning the information collection instruments for FEMA's Hazard Mitigation Assistance (HMA) Grant programs.

DATES: Comments must be submitted on or before April 13, 2026.

ADDRESSES: Submit comments at www.regulations.gov under Docket ID FEMA-2026-0003. Follow the instructions for submitting comments.

All submissions received must include the agency name and Docket ID, and will be posted, without change, to the Federal eRulemaking Portal at http://www.regulations.gov, and will include any personal information you provide. Therefore, submitting this information makes it public. You may wish to read the Privacy and Security Notice that is available via a link on the homepage of www.regulations.gov.

FOR FURTHER INFORMATION CONTACT: H-Camille Crain, Deputy Director, Documents, Design, Program Effectiveness Branch, FEMA, at 202-212-4871 or via email at H-Camille.Crain@fema.dhs.gov. You may contact the Information Management Division for copies of the proposed collection of information at email address: FEMA-Information-Collections-Management@fema.dhs.gov.

SUPPLEMENTARY INFORMATION: This collection of information is necessary for eligibility determinations, grants management, and compliance with other Federal laws and regulations for HMA's financial and technical assistance programs. HMA programs included in this information collection are the Flood Mitigation Assistance (FMA) program, the FMA Swift Current (Swift Current) program, the Building Resilient Infrastructure and Communities (BRIC) program, BRIC Direct Technical Assistance (DTA), the Pre-Disaster Mitigation (PDM) program, the Safeguarding Tomorrow Revolving Loan Fund (RLF) Program, the Rehabilitation of High Hazard Potential Dams (HHPD), and the National Dam Safety Program (NDSP).

The FMA program is authorized by Section 1366 of the National Flood Insurance Act of 1968, as amended (Pub. L. 90-448, 42 U.S.C. 4104c); the Flood Disaster Protection Act of 1973 (Pub. L. 93-234, 42 U.S.C. 4001 et seq.); and the National Flood Insurance Reform Act of 1994 (Pub. L. 103-325, 42 U.S.C. 4001). FMA under 44 CFR part 77 (October 1, 2021) (previously located at 44 CFR part 79) provides funding for measures taken to reduce or eliminate the long-term risk of flood damage to buildings, manufactured homes, and other structures insured under the National Flood Insurance Program (NFIP).

The BRIC program is authorized by Section 203 of the Robert T. Stafford Disaster Relief and Emergency Assistance Act (Stafford Act), as amended (Pub. L. 93-288, 42 U.S.C. 5133). The BRIC program seeks to fund effective and innovative activities that will reduce risk, increase resilience, and serve as a catalyst to encourage the whole community to invest in and adopt hazard mitigation policies. BRIC is designed to promote a national culture of preparedness and public safety by encouraging investments to protect our communities and infrastructure and strengthen our national hazard mitigation capabilities to foster resilience.

BRIC DTA provides non-financial direct technical assistance as authorized by Section 203 of the Stafford Act to eligible communities, helping them reduce risks from natural disasters and build resilience. The program offers hands-on guidance for developing and implementing mitigation projects, navigating funding opportunities, and strengthening local capability and capacity to address natural hazards. BRIC DTA focuses on ensuring communities can access resources and expertise to enhance disaster preparedness and resilience.

The PDM grant program is authorized under Section 203 of the Stafford Act. PDM makes Federal funds available to State, local, Tribal, and territorial governments to plan for and implement sustainable cost-effective measures designed to reduce the risk to individuals and property from future natural hazards, while also reducing reliance on federal funding from future disasters.

The NDSP is authorized under Section 215 of the Water Resources Development Act of 1996 (Public Law 104-303, 33 U.S.C. 467f). The NDSP was reauthorized in the Water Resources Reform and Development Act of 2014 (Pub. L. 113-121, 33 U.S.C. 2201). The NDSP enhances dam safety across the United States by reducing risks to life and property associated with dam failures through coordinated efforts among federal and state agencies to improve dam safety practices, promote public awareness, and support the development and implementation of safety programs.

The HHPD program, established under Section 5006 of the Water Infrastructure Improvements for the Nation Act signed on December 16, 2016, is a grant program under the NDSP. The HHPD program provides technical, planning, design, and construction assistance through grants to support the rehabilitation of eligible high hazard potential dams. 33 U.S.C. 467f-2(f) mandates the development of a risk-based priority system to identify eligible high hazard potential dams for grant funding. Applicants must coordinate with the State Dam Safety Officer and State Hazard Mitigation Officer to meet grant requirements, including NFIP participation, hazard mitigation plans, floodplain management plans, risk prioritization, and state dam safety agency approval.

The Safeguarding Tomorrow RLF program, authorized under Section 205 of the Stafford Act, is a competitive grant program providing capitalization grants to States, eligible Federally recognized Tribes, territories, and the District of Columbia to establish revolving loan funds that provide hazard mitigation assistance for local governments to reduce risks from natural hazards and disasters.

In accordance with 2 CFR 200.204, FEMA requires that all parties interested in receiving FEMA mitigation grants submit an application package for grant assistance. Applications and subapplications for BRIC and FMA are submitted via FEMA Grants Outcomes (FEMA GO). FEMA GO was developed to meet the intent of the e-Government initiative, authorized by Federal Financial Assistance Management Improvement Act of 1999 (Pub. L. 106-107, 31 U.S.C. 6101). This initiative requires that all Government agencies both streamline grant application processes and provide for the means to electronically create, review, and submit a grant application via the internet.

FEMA is revising this information collection by adding three new instruments for the Safeguarding Tomorrow RLF Grant (the Grants Capitalization Form, Project Proposal List, and Intended Use Plan) and one new instrument for the HHPD program. The new instruments for the Safeguarding Tomorrow RLF Grant will facilitate program administration, track proposed projects, and outline intended use of funds. The HHPD Prioritization Tool will assist with the prioritization of dam safety projects.

Collection of Information

Title: FEMA Mitigation Grant Programs.

Type of Information Collection: Revision of a currently approved information collection.

OMB Number: 1660-0072.

FEMA Forms: FEMA Form FF-206-FY-22-151, Quarterly Progress Report (QPR); FEMA Form FF-206-FY-22-155, Building Resilient Infrastructure and Communities (BRIC) Direct Technical Assistance (DTA) Request Form; FEMA Form FF-206-FY-22-156, Model Statement of Assurances for Property Acquisition Projects; FEMA Form FF-206-FY-22-157, FEMA Model Deed Restriction; FEMA Form FF-206-FY-22-158; Acknowledgement of Conditions For Properties Using FEMA Hazard Mitigation Assistance Grant Funds; FEMA Form FF-206-FY-26-100, Benefit Cost Analysis (BCA) Toolkit; FEMA Form FF-206-FY-26-101, Safeguarding Tomorrow Revolving Loan Fund (RLF) Grant Capitalization Application; FEMA Form FF-206-FY-26-102 Safeguarding Tomorrow Revolving Loan Fund (RLF) Project Proposal List (PPL); FEMA Form FF-206-FY-26-103, Safeguarding Tomorrow Revolving Loan Fund (RLF) Intended Use Plan (IUP);FEMA Form FF-206-FY-26-104, FEMA Go Project Narrative Subgrant Application; FEMA Form FF-206-FY-26-105, Building Resilient Infrastructure and Communities (BRIC) National Review Panel Solicitation; FEMA Form FF-206-FY-26-106, High Hazard Potential Dams (HHPD) Prioritization Tool; and FEMA Form FF-207-FY-21-100 (formerly 024-0-1), Environmental and Historic Preservation (EHP) Review.

Abstract: HMA's financial and technical assistance programs use an automated grant application and management system called FEMA GO to collect information for eligibility determinations, grants management, and compliance with other Federal laws and regulations. The FEMA GO system includes application information needed to apply for funding under these grant programs. These programs seek to reduce or eliminate risk to insured structures, increase resilience, invest in community hazard mitigation policies, and strengthen local capability and capacity to address natural hazards.

Affected Public: State, local or Tribal Governments.

Estimated Number of Respondents: 841.

Estimated Number of Responses: 28,449.

Estimated Total Annual Burden Hours: 144,525.

Estimated Total Annual Respondent Cost: $10,100,277.

Estimated Respondents' Operation and Maintenance Costs: $0.

Estimated Respondents' Capital and Start-Up Costs: $0.

Estimated Total Annual Cost to the Federal Government: $8,350,161.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Nigel S. Allicock,
Records Management Branch Chief, Office of the Chief Administrative Officer, Mission Support, Federal Emergency Management Agency, Department of Homeland Security.

[FR Doc. 2026-02677 Filed 2-10-26; 8:45 am]

BILLING CODE 9111-BW-P